DEPARTMENT OF TRANSPORTATION

Federal Aviation Administration

RTCA, Program Management Committee

Pursuant to section 10(a)(2) of the Federal Advisory Committee Act (Pub. L. 92-463, 5 U.S.C., appendix 2), notice is hereby given for Program Management Committee meeting to be held March 27, 2001, starting at 9:00 a.m. The meeting will be held at RTCA, Inc., 1140 Connecticut Avenue, NW., Suite 1020, Washington, DC 20036.

The agenda will include: (1) Welcome and Introductory Remarks; (2) Review Meeting Agenda; (3) Review Previous Meeting Minutes; (4) Publication Consideration/Approval: (a) Final Draft, Minimum Aviation System Performance Standards (MASPS) for Flight Information Service Broadcast (FIS-B) Data Link, RTCA Paper No. 040-01/PMC-129, prepared by SC-195; (b) Final Draft, Concept of Operations, Night Vision Imaging System for Civil Operators, RTCA Paper No. 47-01/PMC-131, prepared by SC-196; (5) Discussion: (a) Special Committee 194, Air Traffic Data Link Implementation: Status Report; (b) Special Committee 198, NEXCOM: Status Report; (c) Special Committee 147, Traffic Alert and Collision Avoidance System: Status Report; (d) Proposed New Special Committee, National Airspace Redesign; (e) Special Committee 193, Terrain and Airport Databases: Progress Report; (f) Proposed New Special Committee to update DO-214, Minimum Operational Performance (MOPS) for Aircraft Audio System: Status Report; (g) Special Committee 159, Second Interim Report on Ultra Wide Band (UWB)/Global Positioning System (GPS) Interference: Consider for approval to forward to the Department of Transportation; (h) Review nominations for Annual RTCA Awards; (6) Action Item Review: (a) Action Item 00-09, Proposed revision to SC-181 Navigational Standards, Terms of Reference; (b) Action Item 00-15, Revised Document Guidance; (7) Other Business: (a) Status of ICAO Standards and Recommended Practices (SARPs) for Next Generation Satellite Systems (NGSS); (b) Ultra Wide Band (UWB) Portable Electronic Devices Interference; (8) Document Production; (9) Date and Location of Next Meeting; (10) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on March 1, 2001.
Janice L. Peters,
Designated Official.

[FR Doc. 01-6098 Filed 3-9-01; 8:45 am]

BILLING CODE 4910-13-M